DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Phoenix, Arizona and New York, New York. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before June 23, 2017.

FOR FURTHER INFORMATION CONTACT: Nancy-Ellen Zusman, Assistant Chief Counsel, Office of Chief Counsel, (312) 353-2577 or Meghan Kelley, Environmental Protection Specialist, Office of Environmental Programs, (202) 366-6098. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: South Central Light Rail Extension Project, Phoenix, AZ. Project sponsor: Valley Metro. Project description: The proposed project would extend light rail service approximately five miles south from the existing Valley Metro light rail line in Downtown Phoenix to Baseline Road, serving South Phoenix neighborhoods and activity centers and providing a direct link to Central Station in Downtown Phoenix. The project would connect with the existing Valley Metro light rail line in the northbound direction at Central Avenue and Washington Street and in the southbound direction at 1st Avenue and Jefferson Street. The project also includes the McKinley Street/Central Avenue and McKinley Street/1st Avenue turnaround loops and improvements to the Operation and Maintenance Center. Final agency actions: Section 4(f) de minimis impact determination; a Section 106 Memorandum of Agreement, dated January 3, 2017; project-level air quality conformity; and a Finding of No Significant Impact, dated January 6, 2017. Supporting Documentation: Environmental Assessment, dated May 2016.

2. Project name and location: 68th Street/Hunter College Station Improvement Project, New York, NY. Project sponsor: Metropolitan Transportation Authority (MTA). Project description: The proposed project would reconfigure the 68th Street/Hunter College Subway Station located at Lexington Avenue and East 68th Street in Manhattan to provide Americans with Disabilities Act (ADA) accessibility and improve passenger circulation. The project would make changes at the street, mezzanine, and platform levels, including new street stairs, new mezzanines, and new platform stairs near the north end of the station. Final agency actions: Section 4(f) de minimis impact determination; Section 106 finding of no adverse effect; and a Finding of No Significant Impact, dated July 28, 2016. Supporting Documentation: Environmental Assessment, dated February 2016.

Lucy Garliauskas,
Associate Administrator Planning and Environment.

[FR Doc. 2017-01449 Filed 1-23-17; 8:45 am]

BILLING CODE P